FEDERAL COMMUNICATIONS COMMISSION

47 CFR Part 64

[CG Docket Nos. 03-123 and 08-15; FCC 08-149]

Telecommunications Relay Services and Speech-to-Speech Services for Individuals With Hearing and Speech Disabilities; Speech-to-Speech and Internet Protocol (IP) Speech-to-Speech Telecommunications Relay Services

AGENCY: Federal Communications Commission.

ACTION: Proposed rule.

SUMMARY: In this document, the Commission seeks comment on ways to improve the provision of Speech-to-Speech (STS), including, for example, whether to modify the minimum time period a Communications Assistant (CA) should be required to stay on a call, and ways to improve outreach associated with STS. The Commission also seeks comment on the tentative conclusion that Internet Protocol STS (IP STS) is a form of telecommunications relay service (TRS) eligible for compensation from the Interstate TRS Fund and related issues relevant to the provision, regulation, and compensation of IP STS. These issues include the appropriate compensation rate for IP STS, and whether it should be compensated at the same rate as STS.

DATES: Comments are due on or before September 12, 2008. Reply comments are due on or before September 29, 2008.

ADDRESSES: Interested parties may submit comments identified by FCC 08-149, by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the Web site for submitting comments. For ECFS filers, in completing the transmittal screen, filers should include their full name, U.S. Postal service mailing address, and CG Docket Nos. 03-123 and 08-15. Parties also may submit an electronic comment by Internet e-mail. To get filing instructions, filers should send an e-mail to ecfs@fcc.gov, and include the following words in the body of the message, “get form <your e-mail address>.” A sample form and directions will be sent in response.

• Paper filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their comments on compact disc. The compact disc should be submitted, along with three paper copies, to: Dana Wilson, Consumer and Governmental Affairs Bureau, Disability Rights Office, 445 12th Street, SW., Room 3-C418, Washington, DC 20554. Such submission should be on a compact disc formatted in an IBM compatible format using Word 2003 or a compatible software. The compact disc should be accompanied by a cover letter and should be submitted in “read only” mode. The compact disc should be clearly labeled with the commenter's name, proceeding (CG Docket Nos. 03-123 and 08-15), type of pleading (comment or reply comment), date of submission, and the name of the electronic file on the compact disc. The label also should include the following phrase: “CD-Rom Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Gregory Hlibok, Consumer and Governmental Affairs Bureau, Disability Rights Office at (800) 311-4381 (voice) or e-mail at Gregory.Hlibok@fcc.gov.

SUPPLEMENTARY INFORMATION: This is a summary of the Commission's Telecommunications Relay Services and Speech-to-Speech Services for Individuals with Hearing and Speech Disabilities; Speech-to-Speech Services and Internet Protocol (IP) Speech-to-Speech Telecommunications Relay Service, Notice of Proposed Rulemaking (STS and IP STS NPRM), document FCC 08-149, adopted June 11, 2008, and released June 24, 2008, in CG Docket Nos. 03-123 and 08-15, seeking comment on matters concerning the provision of STS and IP STS. The full text of FCC 08-149 and copies of any subsequently filed documents in this matter will be available for public inspection and copying during regular business hours at the FCC Reference Information Center, Portals II, 445 12th Street, SW., Room CY-A257, Washington, DC 20554. FCC 08-149 and copies of subsequently filed documents in this matter may also be purchased from the Commission's duplicating contractor at Portals II, 445 12th Street, SW., Room CY-B402, Washington, DC 20554. Customers may contact the Commission's duplicating contractor at its Web site, http://www.bcpiweb.com, or by calling 1-800-378-3160. FCC 08-149 can also be downloaded in Word or Portable Document Format (PDF) at: http://www.fcc.gov/cgb/dro/trs.html.

People with Disabilities: To request materials in accessible formats for people with disabilities (Braille, large print, electronic files, audio format), send an e-mail to fcc504@fcc.gov or call the Consumer and Governmental Affairs Bureau at (202) 418-0530 (voice), (202) 418-0432 (TTY).

Initial Paperwork Reduction Act of 1995 Analysis

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Synopsis

1. STS is a form of TRS that allows persons with speech disabilities access to the telephone system by employing specially trained CAs to understand the speech patterns of an STS user and to re-voice the words spoken by the STS user to the other party of the call. Common carriers obligated to provide TRS are required to also provide STS. IP STS is a proposed form of TRS that functions similar to STS in which the STS user would connect to the CA over the Internet instead of the Public Switched Telephone Network (PSTN). The Commission seeks comments on issues related to STS and IP STS.

2. STS Issues. The Commission's rules require that STS must be accessible by dialing 711, the nationwide three-digit number for TRS. Also, the Commission's rules require that each CA must remain on an STS call session for a minimum of 15 minutes before transferring the call to another CA because changing CAs can be particularly disruptive to users with speech disabilities.

3. On June 26, 2006, Bob Segalman and Rebecca Ladew filed a petition requesting that the Commission amend its rules to require an STS CA to stay with the call for a minimum of 20 minutes rather than 15 minutes, and to require that the 20-minute period not commence until “effective” communication begins between the STS user and the CA. In addition, the Commission received reports that some STS providers offer the STS user the option to have his or her voice muted so that the other party of the call only hears the CA re-voicing the call which is the preferred option among some STS users. The Commission also received reports from some STS users that they have been disconnected after dialing 711 when the CA attempts to transfer the caller to an STS CA.

4. The Commission therefore seeks comment on: (1) Whether to extend the 15-minute call duration rule to 20 minutes or another length of time; (2) whether that time period should commence running when “effective” communication occurs between the STS CA and the STS user; (3) how to determine when “effective” communication begins; and (4) what alternative approaches or requirements the Commission should adopt to ensure the efficiency of STS calls.

5. The Commission also seeks comment on whether the Commission should require STS providers to offer the STS user the option to have his or her voice muted. Further, the Commission seeks comments on the scope of the problem concerning 711 dialing and on ways to ensure that STS users dialing 711 can promptly reach an STS CA, including by using prompts or interactive menus.

6. Internet Protocol Speech-to-Speech. On December 21, 2007, Hawk Relay filed a request for clarification that IP STS is a form of TRS eligible for compensable from the Interstate TRS Fund. Hawk Relay describes IP STS as a type of STS that uses the Internet, rather than the PSTN. Hawk Relay asserts that IP STS offers certain benefits over traditional STS, including portability and ease of use, and that IP STS will spur TRS competition and innovation. The request was placed on Public Notice. Consumer and Governmental Affairs Seeks Comment on Request for Clarification that Internet Protocol Speech-to-Speech Service is a Form of Telecommunications Relay Service Compensable from the Interstate TRS Fund, CG Docket No. 08-15, Public Notice, DA 08-292; published at 73 FR 1649, April 7, 2008. Commenters in response to the Public Notice support the request that the Commission recognize IP STS as a form of TRS compensable from the Fund.

7. The Commission seeks comment on the following tentative conclusions regarding the proposed IP STS service that: (1) IP STS is a form of TRS because it is an extension of traditional STS which employs an Internet connection between the STS user and the CA; (2) all IP STS calls may be compensated from the Fund if provided in compliance with the Commission's rules, and at the same rate as STS; and (3) a common carrier desiring to provide IP STS may seek Commission certification in order to be eligible for compensation from the Interstate TRS Fund.

8. The Commission also seeks comment on its tentative conclusions that IP STS providers need not meet certain TRS requirements regarding: (1) CA's competency skills in typing and spelling; (2) the handling of calls in ASCII and Baudot formats; (3) call release functionality; (4) Hearing Carry Over (HCO) and Voice Carry Over (VCO) services; (5) equal access to interexchange carriers; (6) pay-per-call (900) service; (7) speed dialing; and (8) outbound 711 dialing.

9. Finally, the Commission seeks comment on the emergency call handling rules that should apply to IP STS. Relatedly, the Commission asks whether IP STS users should be required to obtain a ten-digit North American Numbering Plan (NANP) telephone number.

10. Outreach. In response to concerns that STS outreach efforts in identifying and reaching out to potential STS users have not been adequate because of low intrastate compensation rates, the Commission seeks comment on: (1) Whether the Commission may require individual states to increase intrastate STS rates; (2) what other steps the Commission should take to ensure that all STS providers receive sufficient compensation to engage in effective outreach to inform new potential users; (3) what specific outreach efforts may extend the reach of STS (and IP STS, if applicable) to new users; and (4) whether the Commission should mandate such efforts. The Commission particularly asks whether the Commission has the authority to require individual states to increase the compensation rates paid for intrastate STS.

11. One Nationwide STS Provider. A commenter has suggested that it might be appropriate to have a single, nationwide STS provider offer both interstate and intrastate TRS services due to the low usage of these services. The Commission seeks comment on this suggestion and whether the Commission has the authority to mandate such an approach given that Section 225 of the Communications Act, places the obligation on states to oversee the provision of intrastate TRS.

Initial Regulatory Flexibility Certification

12. The Regulatory Flexibility Act of 1980, as amended (RFA), requires that an initial regulatory flexibility analysis be prepared for notice-and-comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one that: (1) Is independently owned and operated; (2) is not dominant in its field of operation; and (3) satisfies any additional criteria established by the Small Business Administration (SBA).

13. In the STS and IP STS NPRM, the Commission seeks comment on issues concerning the provision of STS and IP STS. The Commission proposes requiring an STS CA to stay with the call for a minimum of 20 minutes, rather that the present minimum of 15 minutes, in order to ensure the effective and efficient relaying of STS calls.

14. The Commission also proposes amending its TRS rules to require that STS providers offer the STS user the option of having her or his voice muted so that the other party to the call would only hear the STS CA re-voicing the call, not the voice of the STS user as well. In the STS and IP STS NPRM, the Commission proposes that the STS provider should be required to utilize an interactive menu that provides an option for reaching an STS CA in order to ensure that STS users calling 711 will promptly reach an STS CA to handle their calls. For instance, after an STS caller dials 711 and reaches the provider, the caller would reach an STS CA by pressing one additional number on the telephone. Finally, the Commission invites comment on its tentative conclusion that IP STS is a form of TRS eligible for compensation from the Interstate TRS Fund.

15. The Commission concludes that these proposed changes may be necessary to improve the effectiveness and quality of STS and IP STS services so that users may receive a functionally equivalent telephone service, as mandated by Title IV of the Americans With Disabilities Act.

16. The Commission believes that none of these proposed changes would impose a significant burden on providers, including small businesses. However, if the proposed changes may result in additional financial burden on the part of the affected providers, including small entities, the providers will be promptly reimbursed from the Interstate TRS Fund for the costs of complying with the proposed rules, if adopted. Entities, especially small businesses, are encouraged to quantify the costs and benefits of any reporting requirement that may be established in this proceeding.

17. The modifications the Commission proposes consist of policies aimed at achieving a functionally equivalent telephone service for TRS users and are not expected to have a substantial economic impact upon providers, including small businesses, because each small business will receive financial compensation for reasonable costs incurred rather than absorb an uncompensated financial loss or hardship.

18. With regard to whether a substantial number of small entities may be affected by the requirements proposed in the STS and IP STS NPRM, the Commission notes that, of the 7 providers affected by the STS and IP STS NPRM, only one meets the definition of a small entity. The SBA has developed a small business size standard for Wired Telecommunications Carriers, which consists of all such firms having 1,500 or fewer employees. Seven providers currently receive compensation from the Interstate TRS Fund for providing STS: AT&T Corp.; GoAmerica, Inc.; Hamilton Relay, Inc.; Nordia Inc.; Kansas Relay Service, Inc.; State of Michigan and Sprint. Because only one of the providers would be affected by the STS and IP STS NPRM, if adopted, is deemed to be small entities under the SBA's small business size standard, the Commission concludes that the number of small entities potentially affected by the Commission's proposed rules in the STS and IP STS NPRM is not substantial.

19. Moreover, given that all providers potentially affected by the proposed rules, including the one that is deemed to be a small entity under the SBA's standard, would be entitled to receive prompt reimbursement for its reasonable costs of compliance, the Commission concludes that the STS and IP STS NPRM, if adopted, will not have a significant economic impact on small entities.

20. Therefore, the Commission certifies that the proposals in the STS and IP STS NPRM, if adopted, will not have a significant economic impact on a substantial number of small entities.

Ordering Clauses

Pursuant to sections 1, 4(i) and (o), 225, 255, 303(r), 403, 624(g), and 706 of the Communications Act of 1934, as amended, 47 U.S.C. 151, 154(i) and (o), 225, 255, 303(r), 403, 554(g), and 606, the Notice of Proposed Rulemaking is adopted.

The Commission's Consumer and Governmental Affairs Bureau, Reference Information Center, shall send a copy of the Notice of Proposed Rulemaking, including the Initial Regulatory Flexibility Certification, to the Chief Counsel for Advocacy of the Small Business Administration.

Federal Communications Commission.
William F. Caton,
Deputy Secretary.

[FR Doc. E8-18616 Filed 8-12-08; 8:45 am]

BILLING CODE 6712-01-P